DEPARTMENT OF STATE

[Public Notice 8734]

In the Matter of the Designation of Al-Nusrah Front Also Known as Jabhat al-Nusrah Also Known as Jabhet al-Nusra Also Known as The Victory Front Also Known as Al Nusrah Front for the People of the Levant Also Known as Al-Nusrah Front in Lebanon Also Known as Support Front for the People of the Levant Also Known as Jabaht al-Nusra li-Ahl al-Sham min Mujahedi al-Sham fi Sahat al-Jihad as a Foreign Terrorist Organization Pursuant to Section 219 of the Immigration and Nationality Act, as Amended

Based upon a review of the Administrative Record assembled in this matter and in consultation with the Attorney General and the Secretary of the Treasury, I conclude that there is a sufficient factual basis to find that the relevant circumstances described in section 219 of the Immigration and Nationality Act, as amended (hereinafter “INA”) (8 U.S.C. 1189), exist with respect to Al-Nusrah Front, also known as Jabhat al-Nusrah, also known as Jabhet al-Nusra, also known as The Victory Front, also known as Al Nusrah Front for the People of the Levant, also known as Al-Nusrah Front in Lebanon, also known as Support Front for the People of the Levant, also known as Jabaht al-Nusra li-Ahl al-Sham min Mujahedi al-Sham fi Sahat al-Jihad.

Therefore, I hereby designate the aforementioned organization and its aliases as a Foreign Terrorist Organization pursuant to section 219 of the INA.

This determination shall be published in the Federal Register.

Dated: May 7, 2014.
John F. Kerry,
Secretary of State.

[FR Doc. 2014-11217 Filed 5-14-14; 8:45 am]

BILLING CODE 4710-10-P